DEPARTMENT OF HEALTH AND HUMAN SERVICES

Administration for Children and Families

Submission for OMB Review; Administration and Oversight of the Unaccompanied Alien Children Program (0970-0547)

AGENCY: Office of Refugee Resettlement; Administration for Children and Families; Department of Health and Human Services

ACTION: Request for public comment.

SUMMARY: The Office of Refugee Resettlement (ORR) Administration for Children and Families (ACF), U.S. Department of Health and Human Services (HHS), is proposing to continue to collect information that will allow ORR to monitor Unaccompanied Alien Children (UAC) Program care provider facility compliance with Federal laws and regulations, legal agreements, and ORR policies and procedures; and perform other administrative tasks related to the UAC Program. These information collections were originally approved under emergency approval for 6 months. This request is to continue data collection. Information collections related to other aspects of the UAC Programs, such as sponsorship and health care, are covered under OMB Numbers 0970-0278, 0970-0385, 0970-0466, 0970-0490, 0970-0498, 0970-0509, and 0970-0543.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The components of this information request include:

1. Care Provider Facility Tour Request (Form A-1A): This instrument is used by advocacy groups, faith-based organizations, researchers, government officials and other stakeholders to request tours of ORR care provider facilities. After the request is received, ORR documents its decision and details regarding date and location of the tour, if applicable, and provides the completed form to the requester. This instrument was previously approved under OMB No. 0970-0498.

2. Notice to UAC for Flores Visits (Forms A-4 & A-4s): This instrument is used by care provider facilities to notify UAC of upcoming visits by Flores counsel (lawyers and volunteers from the organization that originally participated in the creation of the Flores Settlement Agreement) and allow UAC to add their name to a sign-up sheet if they are willing to speak with Flores counsel.

3. Authorization for Release of Records (Form A-5): This instrument is used by attorneys, legal service providers, child advocates, government agencies, and other stakeholders to request UAC case file records. In most cases, requesters are required to obtain the signature of the subject of the record request (UAC or their parent/legal guardian or sponsor) and a witness.

4. Program Level Event (PLE) Report (Form A-9): This instrument is used by ORR care provider programs to inform ORR of events that may affect the entire care provider facility, such as an active shooter or natural disaster. An updated PLE Report is required for events that occur over multiple days or if the situation changes regarding the event.

5. Emergency Significant Incident Report (SIR) and Addendum (Forms A-10A & A-10B): This instrument is used by ORR care provider programs to inform ORR of urgent situations in which there is an immediate threat to a child's safety and well-being that require instantaneous action. In some cases, an Emergency SIR Addendum may be required to provide additional information obtained after the initial report.

6. Significant Incident Report (SIR) and Addendum (Forms A-10C & A-10D): This instrument is used by ORR care provider programs to inform ORR of situations that affect, but do not immediately threaten, the safety and well-being of a child. In some cases, an SIR Addendum may be required to provide additional information obtained after the initial report.

7. Sexual Abuse Significant Incident Report (SA/SIR) and Addendum (Forms A-10E & A-10F): This instrument is used by ORR care provider programs to inform ORR of allegations of sexual harassment, sexual abuse, and inappropriate sexual behavior. In some cases, an SA/SIR Addendum may be required to provide additional information obtained after the initial report.

8. Hotline Alert (A-12): This instrument is used by ORR's National Call Center to inform ORR of allegations sexual harassment, sexual abuse, inappropriate sexual behavior, and physical abuse that occurred while the UAC was in ORR custody.

ORR no longer plans to implement the UAC Satisfaction Survey (Form A-11 & A-11s) or the UAC Satisfaction Survey Aggregate Data instruments, which were included in the 60-Day Federal Register Notice (85 FR 21240) for this information collection. ORR is removing these two instruments from this information collection request.

Respondents: ORR grantee and contractor staff; advocacy groups, faith-based organizations, researchers, and government officials; attorneys, legal service providers, child advocates, and government agencies; and other stakeholders.

Annual Burden Estimates
Instrument | Total number of respondents | Annual number of responses per respondent | Average burden minutes per response | Annual burden minutes
Care Provider Facility Tour Request (Form A-1A) | 200 | 1 | 10 | 2,000
Notice to UAC for Flores Visits (Forms A-4 & A-4s) | 20 | 1 | 15 | 300
Authorization for Release of Records (Form A-5) | 4,000 | 1 | 10 | 40,000
Program Level Event (Form A-9) | 1,500 | 1 | 20 | 30,000
Emergency Significant Incident Report (Form A-10A) | 1,640 | 1 | 20 | 32,800
Emergency Significant Incident Report Addendum (Form A-10B) | 1,360 | 1 | 15 | 20,400
Significant Incident Report (Form A-10C) | 80,340 | 1 | 20 | 1,606,800
Significant Incident Report Addendum (Form A-10D) | 25,630 | 1 | 15 | 384,450
Sexual Abuse Significant Incident Report (Form A-10E) | 5,980 | 1 | 20 | 119,600
Sexual Abuse Significant Incident Report Addendum (Form A-10F) | 4,190 | 1 | 15 | 62,850
Hotline Alert (Form A-12) | 80 | 1 | 15 | 1,200
Estimated Annual Burden Total |  |  |  | 2,300,400

Authority: 6 U.S.C. 279; 8 U.S.C. 1232; Flores v. Reno Settlement Agreement, No. CV85-4544-RJK (C.D. Cal. 1996).

Mary B. Jones,
ACF/OPRE Certifying Officer.

[FR Doc. 2020-24006 Filed 10-28-20; 8:45 am]

BILLING CODE 4184-45-P